DEPARTMENT OF ENERGY

Federal Energy Regulatory Commission

[Project No. 2322-069]

Brookfield White Pine Hydro LLC; Notice of Availability of Draft Environmental Assessment and Revised Procedural Schedule

In accordance with the National Environmental Policy Act of 1969 and the Federal Energy Regulatory Commission's (Commission) regulations, 18 CFR part 380, the Office of Energy Projects has reviewed the application for license for the Shawmut Hydroelectric Project, located on the Kennebec River in Kennebec and Somerset Counties, Maine, and has prepared a Draft Environmental Assessment (DEA) for the project. No federal land is occupied by project works or located within the project boundary.

The DEA contains staff's analysis of the potential environmental impacts of the project and concludes that licensing the project, with appropriate environmental protective measures, would not constitute a major federal action that would significantly affect the quality of the human environment.

The Commission provides all interested persons with an opportunity to view and/or print the EA via the internet through the Commission's Home Page (http://www.ferc.gov/), using the “eLibrary” link. Enter the docket number, excluding the last three digits in the docket number field, to access the document. At this time, the Commission has suspended access to the Commission's Public Reference Room, due to the proclamation declaring a National Emergency concerning the Novel Coronavirus Disease (COVID-19), issued by the President on March 13, 2020. For assistance, contact FERC Online Support at FERCOnlineSupport@ferc.gov, or toll-free at (866) 208-3676, or for TTY, (202) 502-8659.

You may also register online at https://ferconline.ferc.gov/eSubscription.aspx to be notified via email of new filings and issuances related to this or other pending projects. For assistance, contact FERC Online Support.

Any comments should be filed within 45 days from the date of this notice.

The Commission strongly encourages electronic filing. Please file comments using the Commission's eFiling system at https://ferconline.ferc.gov/eFiling.aspx. Commenters can submit brief comments up to 6,000 characters, without prior registration, using the eComment system at https://ferconline.ferc.gov/QuickComment.aspx. You must include your name and contact information at the end of your comments. For assistance, please contact FERC Online Support. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2322-069.

With this notice, we are waiving section 5.25(a) of the Commission's regulations that require the DEA to be issued no later than 180 days from the date responses are due to the notice of acceptance and ready for environmental analysis. Instead, the license application will be processed according to the following revised procedural schedule. Revisions to the schedule may be made as appropriate.

Milestone | Target date
Issue Draft EA | July 2021.
Comments on Draft EA due | August 2021.
Modified terms and conditions due | October 2021.
Commission issues Final EA | January 2022.

For further information, contact Matt Cutlip at (503) 552-2762, or by email at matt.cutlip@ferc.gov.

Dated: July 1, 2021.
Kimberly D. Bose,
Secretary.

[FR Doc. 2021-14629 Filed 7-8-21; 8:45 am]

BILLING CODE 6717-01-P